DEPARTMENT OF ENERGY

Federal Energy Regulatory Commission

[Docket No. CP08-96-000]

Arlington Storage Company, LLC; Notice of Availability of the Environmental Assessment for the Proposed Thomas Corners Storage Project

October 31, 2008.

The staff of the Federal Energy Regulatory Commission (FERC or Commission) has prepared an environmental assessment (EA) on the natural gas pipeline facilities proposed by Arlington Storage Company, LLC (ASC) in the above-referenced docket.

The EA was prepared to satisfy the requirements of the National Environmental Policy Act of 1969 (NEPA). The FERC staff concludes that approval of the proposed project, with appropriate mitigating measures, would not constitute a major federal action significantly affecting the quality of the human environment.

Three New York State agencies cooperated in the development of this EA. These agencies include the New York State Department of Environmental Conservation, New York State Department Agriculture and Markets, and the New York State Historic Preservation Office. These state agencies provided input for the preparation of this EA.

The EA assesses the potential environmental effects of the construction and operation of ASC's proposed Thomas Corners Storage (TCS) Project which includes all of the facilities described below in Steuben County, New York. ASC proposes to convert an abandoned natural gas production field into a new storage field referred to as the Thomas Corners Storage Field. The facilities to be constructed at the storage field are referred to as the Thomas Corners Storage Facility (TCS Facility) and would consist of:

• Drilling up to 10 injection/withdrawal wells from a common well pad;

• Drilling two observation wells within the common well pad, if two former production wells located near the TCS Facility cannot be converted into observation wells;

• Constructing about 1.70 miles of gathering pipeline; and

• Constructing and operating a compressor station (Thomas Corners Storage Compressor Station) housing two gas-powered nominal 3,785-horsepower reciprocating engines within the TCS Facility on its western side.

The TCS Facility would have a total working gas capacity of about 7.0 Bcf and would occupy about a 27.0-acre site.

ASC also proposes to:

• Construct about 8.09 miles of 12-inch-diameter pipeline, called the Thomas Corners West Lateral;

• Use an existing 7.50-mile-long, 8-inch-diameter pipeline, called the Thomas Corners South Lateral;

• Construct a 0.19-mile-long extension on the Thomas Corners South Lateral; and

• Construct three meter and regulator stations and interconnections with Columbia Gas Transmission Corporation, Tennessee Gas Pipeline Company, and Corning Natural Gas Company.

The Thomas Corners Storage Field would have a total working gas capacity of about 7 billion cubic feet (Bcf) of natural gas within an abandoned natural gas production field. The purpose of the project is to provide highly flexible services natural gas storage services for two interstate gas transmission systems and a local distribution company.

The EA has been placed in the public files of the FERC. A limited number of copies of the EA are available for distribution and public inspection at: Federal Energy Regulatory Commission, Public Reference Room, 888 First Street, NE., Room 2A, Washington, DC 20426, (202) 502-8371.

Copies of the EA have been mailed to federal, state, and local agencies; public interest groups; interested individuals; newspapers and libraries in the project area; Native America groups; and parties to this proceeding. Any person wishing to comment on the EA may do so. To ensure consideration prior to a Commission decision on the proposal, it is important that we receive your comments before the date specified below.

Please note that the Commission strongly encourages electronic filing of any comments or interventions or protests to this proceeding. See Title 18 of the Code of Federal Regulations, § 385.2001(a)(1)(iii) and the instructions on the Commission's Internet Web site at http://www.ferc.gov under the link to “Documents and Filings” and “eFiling.” eFiling is a file attachment process and requires that you prepare your submission in the same manner as you would if filing on paper, and save it to a file on your computer's hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket.

If you are filing written comments, please carefully follow these instructions to ensure that your comments are received in time and properly recorded:

• Send an original and two copies of your comments to: Kimberly D. Bose, Secretary, Federal Energy Regulatory Commission, 888 First Street, NE., Room 1A, Washington, DC 20426.

• Reference Docket No. CP08-96-000;

• Label one copy of the comments for the attention of the Gas Branch 1, PJ-11.1; and

• Mail your comments so that they will be received in Washington, DC on or before December 1, 2008.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. To register for this service, go to the eSubscription link on the FERC Internet Web site (http://www.ferc.gov/esubscribenow.htm).

Kimberly D. Bose,
Secretary.

[FR Doc. E8-26580 Filed 11-6-08; 8:45 am]

BILLING CODE 6717-01-P